DEPARTMENT OF THE INTERIOR

Fish and Wildlife Service

[FWS-R8-ES-2019-N062; FF08ESMF00-FXES11140800000-190]

Joint Draft Environmental Impact Statement and Environmental Impact Report, Joint Draft Habitat Conservation Plan and Natural Community Conservation Plan; Placer County, California

AGENCY: Fish and Wildlife Service, Interior.

ACTION: Notice of availability of permit application; request for comments.

SUMMARY: We, the U.S. Fish and Wildlife Service, announce the availability of a joint draft environmental impact statement and draft environmental impact report (draft EIS/EIR) under the National Environmental Policy Act of 1967, as amended. We also announce receipt of applications for an incidental take permit under the Endangered Species Act of 1973, as amended, and receipt of a draft habitat conservation plan and natural community conservation plan. The National Marine Fisheries Service and U.S. Army Corps of Engineers are cooperating agencies on the draft EIS/EIR.

DATES: Submitting Comments: To ensure consideration, written comments must be received by August 20, 2019.

Public Meetings: We will hold public meetings on the following dates:

1. Placer County Planning Commission, Thursday, August 1, 2019 at 6:00-8:00 p.m.

2. Lincoln City Hall, Thursday, August 15, 2019 at 6:00-8:00 p.m.

ADDRESSES: Submitting Comments: Please address written comments to Mike Thomas, Chief, Conservation Planning Division:

• By U.S. mail or hand-delivery at U.S. Fish and Wildlife Service, Sacramento Fish and Wildlife Office, 2800 Cottage Way, W-2605, Sacramento, CA 95825; if you are hand-delivering your comments, please call (916) 414-6600 to make an appointment during regular business hours to deliver your comments; or

• By facsimile to (916) 414-6713.

Public Meetings: We will hold public meetings at the following locations:

1. Placer County Planning Commission, 3091 County Center Drive, Auburn, California 95603.

2. Lincoln City Hall, First Floor Community Room, 600 6th Street, Lincoln, California 95648.

Reviewing Documents: You may obtain electronic copies of the draft Western Placer County Habitat Conservation Plan and Natural Community Conservation Plan (draft plan) and draft EIS/EIR from the Sacramento Fish and Wildlife Office website at http://www.fws.gov/sacramento. Copies of these documents are also available for public inspection, by appointment, during regular business hours, at the following locations:

• Sacramento Fish and Wildlife Office (see address above, under Submitting Comments);

• City of Lincoln Planning Department, 600 5th Street, Lincoln, CA 95648;

• Lincoln Public Library, 485 Twelve Bridges Drive, Lincoln, CA 95648;

• Placer County Community Development Resource Agency, 3091 County Center Drive, Auburn, CA 95603; and

• Certain Placer County Library branch locations (350 Nevada Street, Auburn, CA 95603; 6475 Douglas Boulevard, Granite Bay, CA 95746; and 2215 Rippey Road, Penryn, CA 95650).

FOR FURTHER INFORMATION CONTACT: Stephanie Jentsch, Senior Wildlife Biologist, Conservation Planning Division, Sacramento Fish and Wildlife Office (see ADDRESSES), (916) 414-6600 (telephone). If you use a telecommunications device for the deaf, please call the Federal Relay Service at (800) 877-8339.

SUPPLEMENTARY INFORMATION: The U.S. Fish and Wildlife Service (FWS), along with the National Marine Fisheries Service (NMFS) and the U.S. Army Corps of Engineers (Corps), announce the availability of a joint draft environmental impact statement and draft environmental impact report (draft EIS/EIR), prepared pursuant to the National Environmental Policy Act of 1967, as amended (NEPA; 42 U.S.C. 4321 et seq.), and its implementing regulations in the Code of Federal Regulations (CFR) at 40 CFR 1506.6.

We also announce the receipt of applications from Placer County, the City of Lincoln, South Placer Regional Transportation Authority (SPRTA), Placer County Water Agency (PCWA), and the Placer County Authority (PCA) (collectively, applicants) for a 50-year incidental take permit (ITP) under the Endangered Species Act of 1973, as amended (ESA; 16 U.S.C. 1531 et seq.). In support of the applications, the applicants prepared a draft habitat conservation plan and natural community conservation plan (draft plan) pursuant to section 10(a)(1)(B) of the ESA. The applicants are requesting the authorization of incidental take for 14 covered species that could result from activities covered under the draft plan.

Background Information

Section 9 of the ESA and Federal regulations (50 CFR part 17) prohibit the taking of fish and wildlife species listed as endangered or threatened under section 4 of the ESA. Regulations governing permits for endangered and threatened species are set forth at 50 CFR 17.22 and 17.32, respectively. For more about the Federal habitat conservation plan program, go to http://www.fws.gov/endangered/esa-library/pdf/hcp.pdf. As cooperating agencies, NMFS may use the EIS analysis to support a decision as to whether to issue an ITP to the applicants, and the Corps may use the EIS analysis to support decisions made associated with implementing the Clean Water Act (33 U.S.C. 1251 et seq.).

Proposed Action Alternative

FWS and NMFS would issue ITPs to the applicants for a period of 50 years for certain covered activities (described below). The applicants have requested ITPs for 14 covered animal species (described below), of which 7 are listed as endangered or threatened under the ESA.

Plan Area

The geographic scope of the draft plan includes two plan areas. Plan Area A encompasses approximately 209,000 acres of the City of Lincoln and unincorporated lands in western Placer County and is the focus of the draft plan. Plan Area B includes additional specific areas in Placer and Sutter Counties that are not included in Plan Area A. Combined, Plan Areas A and B cover approximately 260,000 acres.

Covered Activities

The proposed ESA section 10 ITPs would allow take of 14 covered species resulting from certain covered activities in the proposed plan areas. The draft plan includes the following seven general categories of covered activities (collectively, covered activities):

1. Valley potential future growth.

2. Valley conservation and rural development.

3. Foothills potential future growth.

4. Foothills conservation and rural development.

5. Regional public programs.

6. In-stream programs.

7. Conservation programs.

Covered activities include urban and rural development, water management, conservation measures, facilities maintenance, and other actions. The first four categories encompass future growth and rural development in the valley and foothills in Plan Area A. The final three categories occur throughout the plan areas and are defined primarily by similar habitat features or programmatic objectives.

Covered Species

Covered species are those 14 species addressed in the draft plan for which conservation actions will be implemented and for which the applicants are seeking ITPs, and include certain species listed under the ESA, species listed under the California Endangered Species Act (CESA), and species that are not currently listed but that have the potential to become listed during the proposed 50-year permit term.

The following wildlife species federally listed as endangered are proposed to be covered by the draft plan under an ITP from the FWS: Conservancy fairy shrimp (Branchinecta conservatio) and vernal pool tadpole shrimp (Lepidurus packardi).

The following wildlife species federally listed as threatened are proposed to be covered by the draft plan under an ITP from the FWS: Giant garter snake (Thamnophis gigas), California red-legged frog (Rana draytonii), valley elderberry longhorn beetle (Desmocerus californicus dimorphus), and vernal pool fairy shrimp (Branchinecta lynchi).

The following wildlife species that are not federally listed are also proposed to be covered by the draft plan: Swainson's hawk (Buteo swainsoni), California black rail (Laterallus jamaicensis coturniculus), western burrowing owl (Athene cunicularia hypugaea), tricolored blackbird (Agelaius tricolor), western pond turtle (Actinemys marmorata), and foothill yellow-legged frog (Rana boylii).

Two species of fish are proposed to be covered by the draft plan under an ITP from NMFS: The Central Valley steelhead (distinct population segment; Oncorhynchus mykiss irideus), which is federally listed as threatened; and the Central Valley fall/late-fall run Chinook salmon (evolutionarily significant unit; Oncorhynchus tshawytscha), which is not listed.

Collectively, these 14 species comprise the covered species addressed by the draft plan. All species included on the ITPs would receive assurances under FWS' “No Surprises” regulations at 50 CFR 17.22(b)(5) and 17.32(b)(5) and NMFS “No Surprises” regulations at 50 CFR 222.307(g).

National Environmental Policy Act Compliance

The draft EIS/EIR was prepared to analyze the impacts of issuing ITPs based on the draft plan and to inform the public of the proposed action, alternatives, and associated impacts and to disclose any irreversible commitments of resources.

FWS and NMFS published a notice of intent (NOI) to prepare a joint environmental impact statement and environmental impact report in the Federal Register on March 7, 2005 (70 FR 11022). The NOI announced a 30-day public scoping period, during which the public was invited to provide written comments and attend three public scoping meetings that were held on March 15, 16, and 17, 2005.

No-Action Alternative

Under the no-action alternative, FWS and NMFS would not issue ITPs to the applicants, and the draft plan would not be implemented. Under this alternative, individual projects carried out by or approved by one or more of the applicants that may take federally listed species would result in project-level consultation with the FWS and NMFS pursuant to section 7 or section 10 of the ESA. Because the applicants and private developers would generate environmental documentation and comply with the ESA on a project-by-project basis, there would not be a comprehensive program to coordinate and standardize requirements under the ESA within the plan area.

Reduced Take/Reduced Fill Alternative

The reduced take/reduced fill alternative would include the same categories of covered activities as the proposed action alternative (see Covered Activities under Proposed Action Alternative, above); however, under this alternative, the Valley Potential Growth Area (A1) would reduce vernal pool complex land (including waters protected by the Clean Water Act) conversion by 1,250 acres (approximately 10 percent). To maintain similar levels of development as the proposed action alternative, more grasslands and agricultural types would be developed (about a 4-percent increase) to compensate. Other aspects of covered activities, covered species, plan implementation, and conservation measures would remain the same as the proposed action alternative under this alternative. There would be no changes to other areas within the plan area.

Reduced Permit Term Alternative

The reduced permit term alternative would include the same categories of covered activities, covered species, and plan area as the proposed action alternative under this alternative; however, under this alternative, the permit term would be 30 years instead of 50. Longer-term projects would not be covered under this alternative, which would result in lower levels of urban and suburban development within the reduced permit term. Because impacts on covered species would be about 40 percent lower, less funding would be available to implement conservation measures, and overall fewer conservation measures would be implemented to meet the issuance criteria (such as land acquisition, management, monitoring, and restoration actions).

Public Comments

We request data, comments, new information, or suggestions from other concerned governmental agencies, the scientific community, Tribes, industry, or any other interested party on this notice, the draft EIS/EIR, or the draft plan. We particularly seek comments on biological information concerning covered species, current or planned activities in the subject area, and identification of other environmental issues that should be considered in regard to the proposed development and permit action.

You may submit your comments and materials by one of the methods listed in ADDRESSES. Comments and materials we receive will be available for public inspection by appointment, Monday through Friday from 8 a.m. to 4:30 p.m., at the Sacramento Fish and Wildlife Office (see ADDRESSES).

Public Availability of Comments

Before including your address, phone number, or other personal identifying information in your comment, you should be aware that your entire comment—including your personal identifying information—might be made publicly available at any time. While you can ask us in your comment to withhold your personal identifying information from public review, we cannot guarantee that we will be able to do so.

Next Steps

Issuance of an ITP is a Federal proposed action subject to compliance with NEPA. The FWS and NMFS will evaluate the application, associated documents, and any public comments we receive to determine whether the application meets the requirements of NEPA regulations and section 10(a) of the ESA. If FWS and NMFS determine that those requirements are met, we will issue permits to the applicants for the incidental take of the covered species. Permit decisions will be made no sooner than 30 days after the publication of the notice of availability for the final plan, final EIS/EIR, and completion of the record of decision.

Authority

We publish this notice under the National Environmental Policy Act of 1969, as amended (42 U.S.C. 4321 et seq.), and its implementing regulations at 40 CFR part 1500 through 1508, as well as in compliance with section 10(c) of the Endangered Species Act of 1973, as amended (16 U.S.C. 1531 et seq.), and its implementing regulations at 40 CFR 17.22.

Michael Fris,
Assistant Regional Director, U.S. Fish and Wildlife Service, Pacific Southwest Region, Sacramento, California.

[FR Doc. 2019-13390 Filed 6-20-19; 8:45 am]

BILLING CODE 4333-15-P